DEPARTMENT OF TRANSPORTATION

Federal Aviation Administration

[Docket No. FAA-2021-0237]

Agency Information Collection Activities: Requests for Comments; Clearance of a Renewed Approval of Information Collection: Aviation Maintenance Technician Schools

AGENCY: Federal Aviation Administration (FAA), Transportation (DOT).

ACTION: Notice and request for comments.

SUMMARY: In accordance with the Paperwork Reduction Act of 1995, FAA invites public comments about our intention to request the Office of Management and Budget (OMB) approval to renew an information collection. The collection involves Aviation Maintenance Technician School (AMTS) applicants and certificate holders. The information to be collected will be used to ensure AMTS applicants and certificate holders meet the regulatory requirements prior to being certificated, and on an ongoing basis following FAA certification.

DATES: Written comments should be submitted by June 23, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Tanya Glines by email at: Tanya.glines@faa.gov; phone: 202-380-5896.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0040.

Title: Aviation Maintenance Technician Schools.

Form Numbers: FAA Form 8610-6.

Type of Review: This is a renewal of an information collection.

Background: The Federal Register Notice with a 60-day comment period soliciting comments on the following collection of information was published on March 15, 2022 (87 FR 14610). This information collection summarizes burden under 14 CFR part 147 regulations to be issued in accordance with Section 135 of the Aircraft Certification, Safety, and Accountability Act in Public Law 116-260, the Consolidated Appropriations Act of 2021.

The collection of information includes both reporting and recordkeeping requirements related to AMTS. All AMTS applicants must submit an application and a description of their facilities, curriculum basis, and instructor requirements. Additionally the applicant must submit any other information necessary to demonstrate compliance with the requirements of part 147. All applicants must establish a curriculum that aligns with the mechanic airman certification standards and that will ensure students are prepared to take the requisite FAA tests for a mechanic certificate and rating(s). Applicants that do not hold accreditation by an accrediting organization recognized by the Department of Education, must develop a Quality Control System and have it approved by the FAA.

Certificated AMTS must notify the FAA of locations, which are in addition to the school's primary location, where the AMTS will conduct training under part 147. All AMTS must maintain and utilize the curriculum designed to continually align with the mechanic airman certifications standards. AMTS must issue authenticated documentation that shows when a student graduated from the part 147 curriculum. This documentation can be used by an applicant for a mechanic certificate towards eligibility to take the FAA written tests. AMTS have the option to issue an authenticated document when a student completes only the General course content of the AMTS curriculum, which would allow the student to take the FAA General written test prior to completing the entire AMTS curriculum. AMTS with an FAA-Approved Quality Control System must maintain the records the AMTS describes, for the timeframes the AMTS prescribes in its Quality Control System.

The information collected is provided to the certificate holder/applicant's appropriate FAA Flight Standards office in order to allow the FAA to determine compliance with the part 147 requirements for obtaining and or retaining an FAA air agency certificate. For applicants, when all part 147 requirements have been met, an FAA air agency certificate is issued, with the appropriate ratings. For FAA certificated AMTS, the FAA uses the information collected to determine if the AMTS provides appropriate training at each location of the AMTS, meets quality control system requirements, and ensures that AMTS students receive an appropriate document showing the student is eligible to take the FAA tests to obtain a mechanic certificate.

Respondents: Approximately 10 AMTS applicants, and 182 FAA-certificated AMTS respond to this collection annually.

Frequency: AMTS applicants respond one time, prior to certification. FAA-certificated AMTS respond occasionally after certification, and have ongoing recordkeeping requirements.

Estimated Average Burden per Response: 19 hours/response on average.

Estimated Total Annual Burden: 11,438 hours/year.

Issued in Washington, DC, on May 19, 2022.
Tanya A. Glines,
Aviation Safety Inspector, Office of Safety Standards, Aircraft Maintenance Division, Airman Section.

[FR Doc. 2022-11136 Filed 5-23-22; 8:45 am]

BILLING CODE 4910-13-P